DEPARTMENT OF HOUSING AND URBAN DEVELOPMENT

[Docket No. FR-5376-N-15]

Fungibility Plan and Follow-Up Reporting To Implement Section 901 on Voucher Funds for Displaced Hurricane Katrina and Rita Families

AGENCY: Office of the Chief Information Officer, HUD.

ACTION: Notice.

SUMMARY: The proposed information collection requirement described below has been submitted to the Office of Management and Budget (OMB) for review, as required by the Paperwork Reduction Act. The Department is soliciting public comments on the subject proposal.

Eligible PHAs in areas most heavily impacted by Hurricanes Katrina and Rita will submit a Notice of Intent and Section 901 Fungibility Plan to inform HUD they will exercise funding flexibility and describe how program funds will be used. PHAs will submit quarterly and annual reports on fund utilization.

DATES: Comments Due Date: March 31, 2010.

ADDRESSES: Interested persons are invited to submit comments regarding this proposal. Comments should refer to the proposal by name and/or OMB approval Number (2577-0245) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Notice of Intent and Fungibility Plan and Follow-Up Reporting to Implement Section 901 of 2006 Supplemental Emergency Appropriations authorizing PHAs to Combine or Use Public Housing Capital or Operating Funds, or Housing Choice Voucher Funds for other program purposes to Aid Formerly Assisted Families Displaced by Hurricanes Katrina and Rita.

OMB Approval Number: 2577-0245.

Form Numbers: None.

Description of the Need for the Information and its Proposed Use: Eligible PHAs in areas most heavily impacted by Hurricanes Katrina and Rita will submit a Notice of Intent and Section 901 Fungibility Plan to inform HUD they will exercise funding flexibility and describe how program funds will be used. PHAs will submit quarterly and annual reports on fund utilization.

Frequency of Submission: Quarterly, Annually, Other one-time upfront fungibility plan submission-annual reporting for 5 years, one final report.

| Number of respondents | Annual responses | × | Hours per response | = | Burden hours
Reporting Burden | 12 | 6 |  | 23.33 |  | 1,680

Total Estimated Burden Hours: 1,680.

Status: Extension of a currently approved collection.

Authority: Section 3507 of the Paperwork Reduction Act of 1995, 44 U.S.C. 35, as amended.

Dated: February 23, 2010.
Leroy McKinney, Jr.,
Departmental Reports Management Officer, Office of the Chief Information Officer.

[FR Doc. 2010-4158 Filed 2-26-10; 8:45 am]

BILLING CODE 4210-67-P